DEPARTMENT OF THE INTERIOR

Office of the Secretary

Privacy Act of 1974, As Amended; Addition of a New System of Records

AGENCY: Department of the Interior.

ACTION: Proposed addition of a new system of records.

SUMMARY: The Department of the Interior (DOI) is issuing public notice of its intent to add a new Privacy Act system of records to its inventory of records systems subject to the Privacy Act of 1974 (5 U.S.C. 552a). The Privacy Act requires publication of a Federal Register notice of the existence and character of records systems maintained by the agency (5 U.S.C. 552 a(e)(4)). The new system of records is called the OS-14: Take Pride In America System.

DATES: 5 U.S.C. 552a(e)(11) requires that the public be provided a 30-day period in which to comment on the intended use of the information in the system of records. The Office of Management and Budget, in its Circular A-130, requires an additional 10-day period (for a total of 40 days) in which to make these comments. Any persons interested in commenting on this proposed system of records may do so by submitting comments in writing to the Office of the Secretary, Freedom of Information Act/Privacy Act Officer, U.S. Department of the Interior, National Business Center, MS 1414 MIB, 1849 C Street, NW., Washington, DC 20240, or by e-mail at osfoia@nbc.gov. Comments received within 40 days of publication in the Federal Register (August 14, 2003), will be considered. The system will be effective as proposed at the end of the comment period unless comments are received which would require a contrary determination. In that case, the Department will publish any changes to the routine uses.

FOR FURTHER INFORMATION CONTACT: Executive Director, Take Pride In America, at TakePride@ios.doi.gov or by mail at MS-3459-MIB, 1849 C St., NW., Washington, DC 20240. Phone: 202-208-5848. Fax: 202-208-5873.

SUPPLEMENTARY INFORMATION: The Take Pride In America System will contain information on organizations and individuals nominated for Take Pride in America awards under the Take Pride In America Act. This information is needed for the Department to judge the candidates for the awards, as well as for administering the TPIA Program national public awareness campaign. A copy of the system notice for the “Take Pride In America System” OS-14 follows.

Dated: June 16, 2003.
Sue Ellen Sloca,
Office of the Secretary, Freedom of Information/Privacy Act Officer, National Business Center.

INTERIOR/OS-14

System name:

Take Pride In America System—Interior, OS-14.

Security classification:

Not classified.

System location:

Department of the Interior, Take Pride In America Program, Office of the Secretary, MS-3459 MIB, 1849 C Street, NW., Washington, DC 20240.

Categories of individuals covered by the system:

Individuals or contacts for organizations nominated for a Take Pride In America (TPIA) Award, and individuals who provide nominations.

Categories of records in the system:

• Name of Individual/Organization being nominated, plus contact information;

• Category of award;

• Name and contact information for person submitting the nomination;

• Description of project or activity which forms basis of award, for example:

• Location of project or activity, State, ownership, U.S. Congressional District

• Length of project or activity,

• Subject area/type of project,

• Total volunteer hours donated, total number of people involved,

• Description, objective, results, outcomes;

• Community or partnership references and sources of funding or materials donations; and

• Other information necessary to manage the public awareness component of the TPIA program.

Only records relating to individuals are covered by the Privacy Act.

Authority for maintenance of the system:

Authorization is granted in the Take Pride In America Act, 16 U.S.C. 4601-4608.

Routine uses of records maintained in the system including categories of users and the purposes of such uses:

The primary purpose of the system is to collect information on the activities of potential awardees, to consider them for awards, to select award winners, and for other necessary actions to further the purposes of the Take Pride In America Program public awareness campaign to increase volunteerism in the U.S. and foster increased stewardship of public resources.

Disclosures outside of the Department of the Interior may be made—

(1) To an expert, consultant, contractor (including employees of the contractor), States' Liaisons, or TPIA Blue Ribbon panel of the Department performing, on the Department's behalf, services related to the TPIA awards program requiring the use of these records.

(2) To another agency or organization for purposes consistent with the TPIA purposes identified above.

(3)(a) To any of the following entities or individuals:

(i) The Department of Justice (DOJ);

(ii) A court, adjudicative or other administrative body;

(iii) A party in litigation before a court or adjudicative or administrative body;

(iv) The Department or any component of the Department;

(v) Any Department employee acting in his or her official capacity; or

(vi) Any Departmental employee acting in his or her individual capacity if the Department or the DOJ has agreed to represent that employee or pay for private representation of the employee;

(b) When—

(i) One of the following is a party to the proceeding or has an interest in the proceeding:

(A) The Department or any component of the Department;

(B) Any Department employee acting in his or her official capacity;

(C) Any Departmental employee acting in his or her individual capacity if the Department or the DOJ has agreed to represent that employee or pay for private representation of the employee;

(D) The United States, when the DOJ determines that the Department is likely to be affected by the proceeding; and

(ii) The Department deems the disclosure to be:

(A) Relevant and necessary to the proceeding; and

(B) Compatible with the purposes for which the records were compiled.

(4) To appropriate Federal, State, local or foreign agencies responsible for investigating or prosecuting the violation of or for enforcing or implementing a statute, rule, regulation, order or license, when the Department becomes aware of a violation or potential violation of a statute, rule, regulation, order or license.

(5) To a congressional office in response to an inquiry an individual covered by the system has made to the congressional office about him or herself.

(6) To a debt collection agency for the purpose of collecting outstanding debts owed to the Department for fees associated with processing FOIA/PA requests.

(7) To an official of another Federal agency to provide information needed in the performance of official duties related to reconciling or reconstructing data files, in support of the functions for which the records were collected and maintained.

Disclosure to Consumer Reporting Agencies:

Not applicable.

Policies and practices for storing, retrieving, accessing, retaining, and disposing of records in the system:

Storage:

Records are stored both in file folders and in electronic form, in computer systems.

Retrievability:

Information from the System will be retrievable by name of nominated individual or organization, nominator, control number, Congressional District, type of activity, and site location.

Safeguards:

Access to records in the system is limited to authorized personnel whose official duties require such access. Paper records are maintained in locked file cabinets and/or in secured rooms. Electronic records conform to Office of Management and Budget and Departmental guidelines reflecting the implementation of the Computer Security Act of 1987 (40 U.S.C. 759). Electronic data will be protected through user identification, passwords, database permissions and software controls. Such security measures will establish access levels for different types of users.

Retention and disposal:

Records of winners and finalists will be kept permanently. Records of other nominations will be kept 10 years, and then destroyed.

System manager and address:

Executive Director, Take Pride In America Program, Office of the Secretary, MS-3459 MIB, 1849 C Street, NW., Washington, DC 20240.

Notification procedures:

A request for information regarding this system of records must be in writing, signed by the requester, and include the requester's full name, address, year(s) activity was nominated, and location of activity.

Record Access procedures:

For a copy of your record, write to the System Manager at the location above, providing the same information specified in the Notification Procedures. The request envelope and letter should be clearly marked “PRIVACY ACT REQUEST FOR ACCESS.”

Contesting Record Procedures:

To ask for changes to your records, write to the System Manager at the location above, providing the same information specified in Notification Procedures, as well as an explanation of what you believe should be changed.

Record source categories:

Information from this system comes primarily from the person nominating the individual/organization for an award. The nominating party can be either the individual/organization nominated or a third party.

Exemptions claimed for the system:

None.

[FR Doc. 03-16869 Filed 7-2-03; 8:45 am]

BILLING CODE 4310-RK-P